DEPARTMENT OF ENERGY

Federal Energy Regulatory Commission

[Docket No. CP09-41-000]

Crossroads Pipeline Company; Notice of Request Under Blanket Authorization

December 23, 2008.

Take notice that on December 22, 2008, Crossroads Pipeline Company (Crossroads), 801 East 86th Avenue, Merrillville, IN 46410, filed a prior notice request pursuant to sections 157.205 and 157.208 of the Commission's regulations under the Natural Gas Act (NGA) and Crossroads' blanket certificate issued in Docket No. CP94-342-000, for NGA certification of an existing compressor station located in Lake County, Indiana, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, Crossroads requests NGA certification for its existing 3,000 horsepower Schererville Compressor Station located in Lake County, Indiana. Crossroads states that the Schererville Compressor Station was constructed for transactions under the Natural Gas Policy Act (NGPA) section 311 to provide transportation. Crossroads asserts that the Schererville Compressor Station was placed in service on January 27, 1997, and constructed at a cost of approximately $4.7 million to allow for the receipt of natural gas into Crossroads system from the pipeline facilities of Natural Gas Pipeline Company of America (Natural). Crossroads states that Natural constructed approximately 7 miles of pipeline facilities to interconnect with the Schererville Compressor Station. Crossroads also asserts that there will be no impact on Crossroads' existing design day and annual obligations to its customers.

Any questions regarding the application should be directed to Fredric J. George, Lead Counsel, Crossroads Pipeline Company, P.O. Box 1273, Charleston, West Virginia 25325-1273, at (304) 357-2359.

Any person may, within 60 days after the issuance of the instant notice by the Commission, file pursuant to Rule 214 of the Commission's Procedural Rules (18 CFR 385.214) a motion to intervene or notice of intervention. Any person filing to intervene or the Commission's staff may, pursuant to section 157.205 of the Commission's regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. E8-31109 Filed 12-30-08; 8:45 am]

BILLING CODE 6717-01-P